FEDERAL RESERVE SYSTEM

12 CFR Part 261a

[Docket No. R-1102]

Rules Regarding Access to Personal Information Under the Privacy Act

AGENCY: Board of Governors of the Federal Reserve System.

ACTION: Final rule.

SUMMARY: In accordance with the Privacy Act, the Board of Governors of the Federal Reserve System (Board) is amending its Rules Regarding Access to Personal Information under the Privacy Act. Notice of this new system of records, entitled Protective Information System (BGFRS-31) is published in an adjacent notice. This rule also makes a technical correction to an earlier document.

EFFECTIVE DATE: May 21, 2001.

FOR FURTHER INFORMATION CONTACT: Elaine M. Boutilier, Managing Senior Counsel, Legal Division (202/452-2418), Board of Governors of the Federal Reserve System, 20th and Constitution, NW., Washington, DC 20551.

SUPPLEMENTARY INFORMATION: The Board's Protective Services Unit (PSU) was established to provide security for the Chairman and other members of the Board of Governors. To facilitate security procedures, the PSU intends to implement a software program that was developed for law enforcement entities to monitor activities of individuals under investigation. The PSU plans to use this system to monitor the correspondence and/or activities of individuals that are perceived to present a possible threat to the safety of Board members. Inclusion of individuals in this system will result primarily from correspondence received from such individuals that is perceived to be threatening to members of the Board. Information may also be received from law enforcement agencies that have information regarding a potential threat to members of the Board. The software that is being acquired for this system will allow the PSU to sort files by a variety of subjects, including such things as names, aliases, addresses, zip codes, etc. This will permit the PSU to obtain a better understanding of the threat, if any, that is presented by an individual or group of individuals. Because this information consists of investigatory material that is compiled for the law enforcement purpose of protecting members of the federal government, it is exempt from certain provisions of the Privacy Act, including the access provisions, pursuant to section (k)(2), 5 U.S.C. 552a(k)(2).

The Board's Rules Regarding Access to Personal Information under the Privacy Act must be amended to include this system of records in the list of “exempt” systems of records. In addition, the Board is taking this opportunity to make a technical correction by moving the citation to the Multi-Rater Feedback Records from the list of systems in § 261a.13(b) that are exempted pursuant to (k)(2), to the list of systems in § 261a.13(c) that are exempted pursuant to (k)(5). The Multi-Rater Feedback Records had been incorrectly placed in the (k)(2) list by the Board's notice on May 30, 2000 (65 FR 34471).

Regulatory Flexibility Act

In accordance with 5 U.S.C. 605, the Board certifies that this rule will not have a significant economic impact on a substantial number of small entities.

Administrative Procedure Act

This rule is exempt from the rule making provisions of the Administrative Procedure Act, 5 U.S.C. 553, and the Congressional Review Act, pursuant to 5 U.S.C. 804(3)(B) and (C), because it is a rule relating to agency management or personnel and a rule of agency procedure that does not substantially affect the rights or obligations of non-agency parties.

List of Subjects in 12 CFR part 261a

Federal Reserve System, Privacy.

For the reasons set forth in the preamble, the Board amends 12 CFR part 261a as follows:

PART 261a—RULES REGARDING ACCESS TO PERSONAL INFORMATION UNDER THE PRIVACY ACT OF 1974

1. The authority citation for part 261a continues to read as follows:

Authority: 5 U.S.C. 552a.

2. In § 261a.13, revise paragraph (b)(9) and add paragraph (e)(11) to read as follows:

§ 261a.13 Exemptions.

(a) * * *

(9) BGFRS-31 Protective Information System.

* * * * *

(c) * * *

(11) BGFRS-25 Multi-rater Feedback Records.

* * * * *

By order of the Board of Governors of the Federal Reserve System, April 11, 2001.
Jennifer J. Johnson,
Secretary of the Board.

[FR Doc. 01-9432 Filed 4-16-01; 8:45 am]

BILLING CODE 6210-01-P